DEPARTMENT OF COMMERCE

National Oceanic and Atmospheric Administration

RIN 0648-XA938

Marine Mammals; File No. 17029

AGENCY: National Marine Fisheries Service (NMFS), National Oceanic and Atmospheric Administration (NOAA), Commerce.

ACTION: Notice; receipt of application for permit.

SUMMARY: Notice is hereby given that Matson's Laboratory, LLC (Gary Matson, Responsible Party), P.O. Box 308, 8140 Flagler Road, Milltown, MT 59851, has applied in due form for a permit to receive, import, export, possess, and conduct analyses marine mammal specimens for scientific research.

DATES: Written, telefaxed, or email comments must be received on or before February 24, 2012.

ADDRESSES: The application and related documents are available for review by selecting “Records Open for Public Comment” from the Features box on the Applications and Permits for Protected Species home page, https://apps.nmfs.noaa.gov, and then selecting File No. 17029 from the list of available applications.

These documents are also available upon written request or by appointment in the following office(s):

Permits and Conservation Division, Office of Protected Resources, NMFS, 1315 East-West Highway, Room 13705, Silver Spring, MD 20910; phone (301) 427-8401; fax (301) 713-0376; and

Northwest Region, NMFS, 7600 Sand Point Way NE., BIN C15700, Bldg. 1, Seattle, WA 98115-0700; phone (206) 526-6150; fax (206) 526-6426.

Written comments on this application should be submitted to the Chief, Permits and Conservation Division, at the address listed above. Comments may also be submitted by facsimile to (301) 713-0376, or by email to NMFS.Pr1Comments@noaa.gov. Please include File No. 17029 in the subject line of the email comment.

Those individuals requesting a public hearing should submit a written request to the Chief, Permits and Conservation Division at the address listed above. The request should set forth the specific reasons why a hearing on this application would be appropriate.

FOR FURTHER INFORMATION CONTACT: Laura Morse or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting authorization for the receipt, possession, import and export of teeth and prepared microscope slides obtained from all seal and sea lion species, expect walrus (Order Pinnipedia). The Matson Laboratory provides age related data to researchers and biologists. Age data are used in population modeling, with age structure an indicator of population condition. Teeth are sent to the laboratory for cementum age analysis. Teeth from no more than 2000 individuals will be analyzed annually. Import and export authority is requested for all locations wherever pinnipeds occur and are the subject of government-authorized research and/or harvest. No live animals would be harassed or taken, lethally or otherwise, under the permit. A permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 19, 2012.
P. Michael Payne,
Chief, Permits and Conservation Division, Office of Protected Resources, National Marine Fisheries Service.

[FR Doc. 2012-1566 Filed 1-24-12; 8:45 am]

BILLING CODE 3510-22-P